DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA), Department of Commerce.

Title: Quarterly Survey of Ocean Freight Revenues and Foreign Expenses of U.S. Carriers (BE-30) and the Quarterly Survey of U.S. Airline Operators' Foreign Revenues and Expenses (BE-37).

OMB Control Number: 0608-0011.

Form Number: BE-30 and BE-37.

Type of Request: Regular submission.

Number of Responses: BE-30 responses: 280 annually (70 filed each quarter; 62 reporting mandatory data and 8 that would file exemption claims). BE-37 responses: 120 annually (30 filed each quarter; 29 reporting mandatory data, and 1 that would file an exemption claim).

Average Hours per Response: 4 hours is the average for those reporting data and 1 hour is the average for those not reporting data, but hours may vary considerably among respondents because of differences in company size and complexity.

Estimated Total Annual Burden Hours: 1,492 (BE-30 burden hours of 1,024 and BE-37 burden hours of 468).

Needs and Uses: The Quarterly Survey of Ocean Freight Revenues and Foreign Expenses of United States Carriers (BE-30) is a survey that collects data from U.S. ocean freight carriers (owners and operators) whose total covered revenues or total covered expenses incurred outside the United States were $500,000 or more in the previous year or are expected to be $500,000 or more during the current year. The covered revenues are: (1) Revenue on cargo outbound from U.S. ports and the associated shipping weight; (2) revenue on cargo inbound into the United States and the associated shipping weight; (3) revenue on cross-trade cargoes; and (4) charter hire (with crew) and space leasing revenues from foreign residents. The covered expenses are: (1) Fuel expenses in foreign countries; (2) expenses in foreign countries (other than fuel expenses); and (3) charter hire (with crew) and space leasing payments to foreign residents.

The Quarterly Survey of U.S. Airline Operators' Foreign Revenues and Expenses (BE-37) is a survey that collects data from U.S. airline operators engaged in the international transportation of goods and/or passengers and whose total covered revenues or total covered expenses incurred outside the United States were $500,000 or more in the previous year or are expected to be $500,000 or more during the current year. The covered revenues are: (1) Revenue derived from carriage of export freight and express from the United States to points outside the United States; (2) revenue derived from carriage of freight and express originating from, and destined to, points outside the United States; (3) revenue derived from transporting passengers originating from, and destined to, points outside the United States; (4) revenue from transporting passengers to and from the United States and the associated number of passengers; and (5) interline settlement receipts from foreign airline operators. The covered expenses are: (1) Expenses incurred outside the United States for fuel and oil, station and maintenance bases, wages, and other goods and services purchased abroad (except aircraft leasing expenses); (2) aircraft (with crew) leasing expenses; and (3) interline settlement payments to foreign airline operators.

The data are needed to monitor U.S. trade in transport services, to analyze the impact on the U.S. and foreign economies, to compile and improve the U.S. economic accounts, to support U.S. commercial policy on trade in transport services, to conduct trade promotion, and to improve the ability of U.S. businesses to identify and evaluate market opportunities. The data are used in estimating the transport component of the U.S. international transactions accounts (ITAs) and national income and product accounts (NIPAs).

The Bureau of Economic Analysis (BEA) is proposing no additions or modifications to the current BE-30 and BE-37 surveys. The effort to keep current reporting requirements unchanged is intended to minimize respondent burden while considering the needs of data users. Existing language in the instructions and definitions will be reviewed and adjusted as necessary to clarify survey requirements.

Affected Public: Businesses or other for-profit organizations.

Frequency: Quarterly.

Respondent's Obligation: Mandatory.

This information collection request may be viewed at www.reginfo.gov. Follow the instructions to view Department of Commerce collections currently under review by OMB. Written comments and recommendations for the proposed information collection should be sent within 30 days of publication of this notice to OIRA_Submission@omb.eop.gov or fax to (202) 395-5806.

Dated: November 13, 2015.
Sheleen Dumas,
Departmental PRA Lead, Office of the Chief Information Officer.

[FR Doc. 2015-29417 Filed 11-17-15; 8:45 am]

BILLING CODE 3510-06-P